DEPARTMENT OF TRANSPORTATION

Federal Railroad Administration

49 CFR Parts 222 and 229

[Docket Nos. FRA-1999-6439, Notice No. 4 FRA-1999-6440]

RIN 2130-AA71

Use of Locomotive Horns at Highway-Rail Grade Crossings

AGENCY: Federal Railroad Administration (FRA), Department of Transportation (DOT).

ACTION: Notice of public hearings.

SUMMARY: On January 13, 2000, FRA published a Notice of Proposed Rulemaking (NPRM) on the Use of Locomotive Horns at Highway-Rail Grade Crossings (Docket No. FRA-1999-6439). On the same date FRA released a Draft Environmental Assessment (DEIS)(Docket No. FRA-1999-6440) pertaining to the proposals contained in the NPRM. In both documents, FRA stated that public hearings would be held in a number of locations throughout the country. On February 15, 2000 (65 FR 7483), and March 22, 2000 (65 FR 15298) FRA published in the Federal Register documents regarding the locations of combined hearings on the NPRM and DEIS to be held in various cities. FRA stated that a further document will be published and posted on FRA's web site (http://fra.dot.gov) regarding specific times and locations of hearings to be held in the remaining locations listed in the NPRM: Berea, Ohio; South Bend, Indiana; and Chicago, Illinois. This document provides information pertaining to those hearing sites as well as repeating the information contained in the earlier hearing documents. .

DATES: Public Hearings: Public hearings will be held in:

1. Washington, D.C. on March 6, 2000, beginning at 9 am;

2. Los Angeles, California area on March 15, 2000, beginning at 9 am;

3. Pendleton, Oregon on March 17, 2000, beginning at 9 am;

4. Ft. Lauderdale, Florida on March 28, 2000, beginning at 9 am;

5. Salem, Massachusetts on April 3, 2000, beginning at 9 am;

6. South Bend, Indiana on April 10, 2000, beginning at 9 am;

7. Chicago, Illinois area on April 25, 2000, beginning at 12 noon;

April 26, 2000, beginning at 9 am;

April 27, 2000; beginning at 9 am; and

8. Berea, Ohio on May 1, 2000, beginning at 6 pm.

Please see SUPPLEMENTARY INFORMATION below for further information concerning participation in the public hearings.

ADDRESSES: Public Hearings: Public hearings will be held at the following locations:

1. Washington, DC: Federal Aviation Administration Auditorium, Third Floor, Federal Office Building 10A, 800 Independence Avenue, S.W., Washington, DC 20591;

2. Los Angeles area: Doubletree Hotel, Catalina II Room, 3050 Bristol Street, Costa Mesa, CA 92626;

3. Pendleton, Oregon: City Council Chambers, Pendleton City Hall, 500 Southwest Dorian Avenue, Pendleton, OR 97801;

4. Ft. Lauderdale, Florida: Doubletree Oceanfront Hotel, 440 Seabreeze Blvd, Fort Lauderdale, FL 33316;

5. Salem, Massachusetts: National Park Service Visitor Center—Auditorium, 2 New Liberty Street, Salem, MA 01970;

6. South Bend, Indiana: Century Center, Convention Hall C—North, 120 South St. Joseph Street, South Bend, Indiana 46601;

7. Chicago, Illinois: On April 25, 2000 at Lyons Township High School, South Campus, The Little Theater, 4900 Willow Springs Road, Western Springs, Illinois;

On April 26, 2000 at The Field Museum of Natural History (James Simpson Theater) 1400 South Lake Shore Drive, Chicago, Illinois 60605;

On April 27, 2000 at the Federal Aviation Administration (The Minnesota Room), 2300 East Devon Avenue, Des Plaines, Illinois 60018; and

8. Berea, Ohio: Baldwin-Wallace College, Kleist Center for Art and Drama, 95 E. Bagley Road, Berea, Ohio 44017.

FRA Docket Clerk: Docket Clerk, Office of Chief Counsel, Mail Stop 10, FRA, 1120 Vermont Avenue, NW, Washington, DC 20590. E-mail address for the FRA Docket Clerk is renee.bridgers@fra.dot.gov.

FOR FURTHER INFORMATION CONTACT: Ron Ries, Office of Safety, FRA, 1120 Vermont Avenue, NW, Washington, DC 20590 (telephone: 202-493-6299); or Mark Tessler, Office of Chief Counsel, FRA, 1120 Vermont Avenue, NW, Washington, DC 20590 (telephone: 202-493-6038).

SUPPLEMENTARY INFORMATION: Any person wishing to provide testimony at one of the public hearings should notify FRA's Docket Clerk at the address above at least three working days prior to the date of the hearing. The notification should also provide either a telephone number or e-mail address at which the person may be contacted. If a participant will be representing an organization, please indicate the name of the organization.

FRA will attempt to accommodate all persons wishing to provide testimony, however depending on the number of people wishing to participate, FRA may find it necessary to limit the length of oral comments to accommodate as many people as possible. Participants may wish to submit a complete written statement for inclusion in the record, while orally summarizing the points made in that statement.

Issued in Washington, DC on March 24, 2000.
Michael T. Haley,
Deputy Chief Counsel, Federal Railroad Administration.

[FR Doc. 00-7749 Filed 3-28-00; 8:45 am]

BILLING CODE 4910-06-P